DEPARTMENT OF HEALTH AND HUMAN SERVICES

National Institutes of Health

Prospective Grant of Exclusive License: Secreted Frizzled Related Protein-1 (sFRP-1) and derivatives thereof and their Use In Therapeutic Applications

AGENCY: National Institutes of Health, Public Health Service, HHS.

ACTION: Notice.

SUMMARY: This is notice, in accordance with 35 U.S.C. 209(c)(1) and 37 CFR part 404.7(a)(1)(i), that the National Institutes of Health, Department of Health and Human Services, is contemplating the grant of an exclusive patent license to practice the inventions embodied in the patents and patent applications belonging to the patent families having HHS Reference Numbers E-160-1997/0,/1,/2 and/3; E-014-2000/0; and E-060-2000/0, and/1. Specific details regarding the individual patents or patent applications which belong to these patent families are set forth in the table below:

Patent application number | Country | Filing date or international filing date | Status | Publication or patent number
60/050,417 | US | 5/29/1997 | Abandoned | N/A
60/050,495 | US | 6/23/1997 | Abandoned | N/A
09/087,031 | US | 5/29/1998 | Issued | 6,479,255
10/138,434 | US | 5/3/2002 | Issued | 7,183,377
PCT/US98/10974 | PCT | 5/29/1998 | Expired | WO 98/54325
09/546,043 | US | 4/10/2000 | Issued | 6,600,018
10/425,586 | US | 4/28/2003 | Issued | 7,223,853
11/748,872 | US | 5/15/2007 | Issued | 7,947,651
13/031,060 | US | 2/18/2011 | Pending | N/A
60/260,908 | US | 1/10/2001 | Abandoned | N/A
PCT/US02/00869 | PCT | 1/10/2002 | Expired | WO 02/055547
10/466,136 | US | 7/10/2003 | Issued | 7,488,710
12/019,567 | US | 1/24/2008 | Pending | 20080145884 A1
2002241859 | AU | 1/10/2002 | Issued | 2002241859
2,434,672 | CA | 1/10/2002 | Pending | 2,434,672
02 707454.1 | EP | 1/10/2002 | Pending | 1387854 A2
2002-556615 | JP | 1/10/2002 | Issued | 4029041
2007-120533 | JP | 1/10/2002 | Issued | 4248583
2008-169716 | JP | 1/10/2002 | Issued | 4248600

to Achelois BioSciences, Inc., a Delaware corporation having a place of business in Lexington, Massachusetts. The patent rights in these inventions have been assigned to the United States of America. In addition, the all of the rights associated with applications 09/546,043; 10/425,586; 11/748,872 and 13/031,060 are exclusively licensed to HHS by the co-owner the University of Massachusetts.

The prospective exclusive license territory may be “worldwide”, and the field of use may be limited to “use of sFRP-1 and derivatives thereof in the treatment of human disease.”

DATES: Only written comments and/or applications for a license which are received by the NIH Office of Technology Transfer on or before November 14, 2011 will be considered.

ADDRESSES: Requests for copies of the patent applications, inquiries, comments, and other materials relating to the contemplated exclusive license should be directed to: Susan S. Rucker, JD, CLP, Senior Advisor for Intellectual Property Transactions, Office of Technology Transfer, National Institutes of Health, 6011 Executive Boulevard, Suite 325, Rockville, MD 20852-3804; Telephone: (301) 435-4478; Facsimile: (301) 402-0220; E-mail: ruckersu@mail.nih.gov.

SUPPLEMENTARY INFORMATION: The technology encompassed by the patents and/or patent applications (IP) to be included in this exclusive license relates to a protein designated secreted Frizzled Related Protein-1 (sFRP-1). sFRP-1, also known as SARP-2 (Secreted Apoptosis Related Protein-2). The IP covers various sFRP-1 compositions and uses thereof.

sFRP-1 is associated with Wnt signaling which has been implicated in a number of different processes including fibrosis (see, Hwang, I et al. Arch Pharm Res 32(12): 1653-62 (2009)) and bone remodeling (see, Hausler KD et al J Bone Miner Res 19(11) 1873-81 (Nov 2004). In addition, hypermethylation of the sFRP-1 promoter region, which leads to a loss of function and decreased sFRP-1 protein expression, has been linked to a number of cancers, including gastric cancer, esophageal adenocarcinoma, bladder cancer and head and neck squamous cell carcinoma (HNSCC).

The prospective exclusive license will be royalty bearing and will comply with the terms and conditions of 35 U.S.C. 209 and 37 CFR part 404.7. The prospective exclusive license may be granted unless within thirty (30) days from the date of this published notice, the NIH receives written evidence and argument that establishes that the grant of the license would not be consistent with the requirements of 35 U.S.C. 209 and 37 CFR part 404.7.

Applications for a license in the field of use filed in response to this notice will be treated as objections to the grant of the contemplated exclusive license. Comments and objections submitted to this notice will not be made available for public inspection and, to the extent permitted by law, will not be released under the Freedom of Information Act, 5 U.S.C. 552.

Dated: October 4, 2011.
Richard U. Rodriguez,
Director, Division of Technology Development and Transfer, Office of Technology Transfer, National Institutes of Health.

[FR Doc. 2011-26343 Filed 10-11-11; 8:45 am]

BILLING CODE 4140-01-P